DEPARTMENT OF AGRICULTURE

Forest Service

Idaho Panhandle Resource Advisory Committee

AGENCY: Forest Service, USDA.

ACTION: Notice of meeting.

SUMMARY: The Idaho Panhandle Resource Advisory Committee (RAC) will hold a virtual meeting. The committee is authorized under the Secure Rural Schools and Community Self-Determination Act (the Act) and operates in compliance with the Federal Advisory Committee Act. The purpose of the committee is to improve collaborative relationships and to provide advice and recommendations to the Forest Service concerning projects and funding consistent with Title II of the Act. RAC information and virtual meeting information can be found at the following website: https://www.fs.usda.gov/main/ipnf/workingtogether/advisorycommittees.

DATES: The meeting will be held on Thursday, August 6, 2020, at 1:00 p.m. (PDT).

All RAC meetings are subject to cancellation. For status of the meeting prior to attendance, please contact the person listed under FOR FURTHER INFORMATION CONTACT.

ADDRESSES: The meeting will be held virtually. For virtual meeting informaiton, please contact the person listed under FOR FURTHER INFORMATION CONTACT.

Written comments may be submitted as described under SUPPLEMENTARY INFORMATION. All comments, including names and addresses when provided, are placed in the record and are available for public inspection and copying. The public may inspect comments received at the Idaho Panhandle National Forest's Supervisor's Office. Please call ahead to facilitate that inspection.

FOR FURTHER INFORMATION CONTACT: Phillip Blundell, RAC Coordinator, by phone at 208-783-2101 or by email at phillip.blundell@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Introduce and orient the new RAC members;

2. Discuss the status of 2019 RAC approved projects; and

3. Discuss the solicitation and review of new Title II project proposals.

This meeting is open to the public. The agenda will include time for people to make oral statements of three minutes or less. Individuals wishing to make an oral statement should request in writing by Thursday, July 23, 2020, to be scheduled on the agenda. Anyone who would like to bring related matters to the attention of the committee may file written statements with the committee staff before or after the meeting. Written comments, requests for time for oral comments or requests for instructions to participate virtually must be sent to Phillip Blundell, RAC Coordinator, Post Office Box 159, Smelterville, Idaho 83868; by email to phillip.blundell@usda.gov or by phone at 208-783-2101.

Meeting Accommodations: If you are a person requiring reasonable accommodation, please make requests in advance for sign language interpreting, assistive listening devices, or other reasonable accommodation. All reasonable accommodation requests are managed on a case-by-case basis.

Dated: July 7, 2020.
Cikena Reid,
USDA Committee Management Officer.

[FR Doc. 2020-14958 Filed 7-10-20; 8:45 am]

BILLING CODE 3411-15-P